INTERNATIONAL TRADE COMMISSION

[USITC SE-13-022]

Sunshine Act Meeting

AGENCY HOLDING THE MEETING: United States International Trade Commission.

TIME AND DATE: September 12, 2013 at 11:00 a.m.

PLACE: Room 101, 500 E Street SW., Washington, DC 20436, Telephone: (202) 205-2000.

STATUS: Open to the public.

MATTERS TO BE CONSIDERED:

1. Agendas for future meetings: none

2. Minutes

3. Ratification List

4. Vote in Inv. No. 731-TA-919 (Second Review)(Welded Large Diameter Line Pipe from Japan). The Commission is currently scheduled to complete and file its determinations and views of the Commission on or before September 26, 2013.

5. Outstanding action jackets: none

In accordance with Commission policy, subject matter listed above, not disposed of at the scheduled meeting, may be carried over to the agenda of the following meeting.

By order of the Commission.
Issued: September 5, 2013.
William R. Bishop,
Supervisory Hearings and Information Officer.

[FR Doc. 2013-21994 Filed 9-5-13; 4:15 pm]

BILLING CODE 7020-02-P